DEPARTMENT OF AGRICULTURE

Agricultural Marketing Service

7 CFR Part 946

[Doc. No. AMS-FV-13-0067; FV13-946-2 FIR]

Irish Potatoes Grown in Washington; Temporary Change to the Handling Regulations and Reporting Requirements for Yellow Fleshed and White Types of Potatoes

Correction

In rule document 2014-10036, appearing on pages 24997 through 24999 in the issue of Friday, May 2, 2014, make the following correction:

On page 24998, in the first column, in the DATES section, “May 5, 2013” should read “May 5, 2014”.

[FR Doc. C1-2014-10036 Filed 5-8-14; 8:45 am]

BILLING CODE 1505-01-D